DEPARTMENT OF LABOR

Employment and Training Administration

[TA-W-40,124]

Krones, Inc. Franklin, WI Notice of Revised Determination on Reconsideration

By letter of February 1, 2002, the petitioners, requested administrative reconsideration regarding the Department's Negative Determination Regarding Eligibility to Apply for Worker Adjustment Assistance, applicable to the workers of the subject firm.

The initial investigation resulted in a negative determination issued on December 17, 2001, based on the finding that imports of labeling machines did not contribute importantly to worker separations at the subject plant. Company imports of labeling equipment were negligible. The Department conducted a survey of the subject firm's customers. The survey revealed that none of the respondents imported products like or directly competitive with what the subject plant produced. The denial notice was published in the Federal Register on January 11, 2002 (67 FR 1509).

The petitioners allege that the company lost orders to an affiliated company that imported labeling machines and that this was not evident during the investigation due to the long lead-time required to fill the orders.

New information provided by the company bear out the fact that the company increased their reliance on imported labeling machines from an affiliated foreign facility, thus contributing to the layoffs at the subject plant during the relevant period.

Conclusion

After careful review of the additional facts obtained on reconsideration, I conclude that increased imports of articles like or directly competitive with those produced at Krones, Inc., Franklin, Wisconsin, contributed importantly to the declines in sales or production and to the total or partial separation of workers at the subject firm. In accordance with the provisions of the Act, I make the following certification:

All workers of Krones, Inc., Franklin, Wisconsin, who became totally or partially separated from employment on or after September 17, 2000 through two years from the date of this certification, are eligible to apply for adjustment assistance under Section 223 of the Trade Act of 1974.

Signed in Washington, DC, this 10th day of April 2002.
Edward A. Tomchick,
Director, Division of Trade Adjustment Assistance.

[FR Doc. 02-10901 Filed 5-1-02; 8:45 am]

BILLING CODE 4510-30-M